DEPARTMENT OF STATE

[Delegation of Authority 384]

Delegation to the Under Secretary for Arms Control and International Security of Authority To Provide Notifications Regarding Russian Proposals for New or Modified Aircraft or Sensors Under the Open Skies Treaty

By virtue of the authority vested in the Secretary of State, including Section 1 of the State Department Basic Authorities Act, as amended (22 U.S.C. 2651a), and Presidential Memorandum “Delegation of Authority Under the National Defense Authorization Act for Fiscal Year 2015,” dated March 27, 2015, and to the extent authorized by law, I hereby delegate to the Under Secretary for Arms Control and International Security the authority to prepare and submit to Congress the notification required by Subsection 1242(a) of the National Defense Authorization Act (NDAA) for Fiscal Year 2015 (Pub. L. 113-291) concerning Russian proposals for new or modified aircraft or sensors under the Open Skies Treaty.

Any act, executive order, regulation or procedure subject to, or affected by, this delegation shall be deemed to be such act, executive order, regulation or procedure as amended from time to time.

Notwithstanding this delegation of authority, the Secretary, the Deputy Secretary, or the Deputy Secretary for Management and Resources may at any time exercise any authority or function delegated by this delegation of authority.

This delegation of authority shall be published in the Federal Register.

Dated: May 6, 2015.
John F. Kerry,
Secretary of State.

[FR Doc. 2015-12646 Filed 5-22-15; 8:45 am]

BILLING CODE 4710-08-P